FEDERAL MARITIME COMMISSION

Ocean Transportation Intermediary License Revocations

The Federal Maritime Commission hereby gives notice that the following ocean transportation intermediary licenses have been revoked pursuant to section 19 of the Shipping Act of 1984 (46 U.S.C. app. 1718) and the regulations of the Commission pertaining to the licensing of Ocean Transportation Intermediaries, effective on the corresponding dates shown below:

License Number: 2849F.

Name: Amex International, Inc.

Address: 1615 L Street, NW, Suite 340, Washington, DC 20036.

Date Revoked: December 7, 2000.

Reason: Failed to maintain a valid bond.

License Number: 15703N.

Name: MSD Line,Inc.

Address: 2400 S. Wilmington Ave., Compton, CA 90220.

Date Revoked: November 24, 2000.

Reason: Failed to maintain a valid bond.

License Number: 15678N.

Name: Nippon Concept (USA), Inc.

Address: 1500 Route 517, Suite 210, Hackettstown, NJ 07840.

Date Revoked: December 1, 2000.

Reason: Failed to maintain a valid bond.

License Number: 10858N.

Name: Omega Shipping (CA), Inc.

Address: 4379 Sheila Street, Los Angeles, CA 90023.

Date Revoked: November 15, 2000.

Reason: Failed to maintain a valid bond.

License Number: 2023F.

Name: Pike Shipping Company, Inc.

Address: 2240 Peters Road, Harvey, LA 70058.

Date Revoked: December 7, 2000.

Reason: Failed to maintain a valid bond.

License Number: 4537F.

Name: Robert S. Rullo d/b/a ABA Forwarding.

Address: 42 Harrison Avenue, North Plainfield, NJ 07060.

Date Revoked: December 4, 2000.

Reason: Surrendered license voluntarily.

License Number: 2556F.

Name: SDV Logistics (Texas), Inc.

Address: 17401 Aldine Westfield, Houston, TX 77073.

Date Revoked: November 1, 2000.

Reason: Surrendered license voluntarily.

License Number: 14226N.

Name: Stallion Freight USA, LLC.

Address: 5451 W. 104th Street, Los Angeles, CA 90045.

Date Revoked: November 26, 2000.

Reason: Failed to maintain a valid bond.

License Number: 14846N.

Name: Visawood Freight International Inc. d/b/a Visawood Container Line.

Address: 182-30 150th Road, #204, Jamaica, NY 11413.

Date Revoked: November 26, 2000.

Reason: Failed to maintain a valid bond.

Sandra L. Kusumoto,
Director, Bureau of Consumer Complaints and Licensing.

[FR Doc. 01-740 Filed 1-9-01; 8:45 am]

BILLING CODE 6730-01-P